DEPARTMENT OF ENERGY

Federal Energy Regulatory Commission

[Docket No. RP02-46-000]

Tennessee Gas Pipeline Company; Notice of Proposed Changes in FERC Gas Tariff

November 15, 2001.

Take notice that on November 13, 2001, Tennessee Gas Pipeline Company (Tennessee) tendered for filing as part of its FERC Gas Tariff, Fifth Revised Volume No. 1, Fifth Revised Sheet No. 180, with a proposed effective date of December 1, 2001.

Tennessee states that the tariff sheet is being filed in compliance with 18 CFR 156.217 of the Commission's regulations to reflect the conversion of a portion of Capital District Energy Center Cogeneration Associates' Part 157 service on Tennessee's system to Part 284 service.

Tennessee states that copies of the filing has been mailed to each of Tennessee's customers and affected state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29077 Filed 11-20-01; 8:45 am]

BILLING CODE 6717-01-P